ENVIRONMENTAL PROTECTION AGENCY

[EPA-HQ-OEJECR-2023-0531; FRL-11583-01-OEJECR]

Agency Information Collection Activities; Proposed Information Collection Request; Comment Request; Environmental Justice Thriving Communities Grantmaking (TCGM) Program: Post-Award Reporting and Public Outreach Information Collections

AGENCY: Environmental Protection Agency (EPA).

ACTION: Notice.

SUMMARY: The Environmental Protection Agency (EPA) is planning to submit an information collection request (ICR), Environmental Justice Thriving Communities Grantmaking (TCGM) (TCGM) Program: Post-Award Reporting and Public Outreach Information Collections (EPA ICR Number 2795.01, OMB Control Number 2035-NEW) to the Office of Management and Budget (OMB) for review and approval in accordance with the Paperwork Reduction Act. Before doing so, EPA is soliciting public comments on specific aspects of the proposed information collection as described below. This is a request for approval of a new collection. This notice allows for 60 days for public comments.

DATES: Comments must be submitted on or before March 8, 2024.

ADDRESSES: Submit your comments, referencing Docket ID Number EPA-HQ-OEJECR-2023-0531, to EPA online using www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: To meet the goals and objectives that demonstrate the U.S. Environmental Protection Agency (EPA's) and the Administration's commitment to achieving environmental justice and embedding environmental justice into Agency programs, EPA released the Thriving Communities Grantmaking Program (TCGM) funding opportunity. The Thriving Communities Grantmaking program is a reimagining of the long-standing Environmental Justice (EJ) Small Grants Program specifically designed to address the needs of underserved communities and marginalized groups through the provision of direct funding. Historically, the Agency has managed the EJ Small Grants directly, moving forward EPA plans to award 11+ cooperative agreement(s) to pass-through entities (referred to as Grantmakers) in collaboration with EPA to design and build their own processes to receive and evaluate competitive community project applications. This competitive subawards program called EJ Thriving Communities Subgrants will fund the initial development of community led environmental justice projects. The pass-through model removes the requirement of applying through the federal grants process and decreases the amount of time it takes to award federal funds. With this Information Collection Request (ICR), EPA seeks authorization to collect information to track progress made by the 11+ Grantmakers and their partnerships. Collection of this information enables EPA to assess and manage the TCGM Program, which ensures responsible stewardship of public funds; rigorous evidence-based learning and improvement; and transparent accountability to the American public. This ICR also requests authorization for the Grantmakers to collect input and insights from communities who seek to obtain subawards via the Thriving Communities Subgrant program, as well as stakeholders who have valuable experience and expertise in community engagement and empowerment. These information collections will enable the Grantmakers and their partners to document local priorities, needs, and norms to ensure that they develop useful and relevant outreach efforts and subgrant opportunities regionally and nationwide. Feedback about the accessibility and effectiveness of the subgrant opportunities will enable the Grantmakers to conduct self-assessments of their work and identify best practices and areas for improvement. Furthermore, each Grantmaker will offer specific application standards for a competitive community application for subaward funding. Lastly, this ICR requests authorization for the Grantmakers to collect information from subrecipients, in order to track progress made in their funded projects.

Form Numbers: None.

Respondents/affected entities: To be determined.

Respondent's obligation to respond: Mandatory for grant recipients as per reporting requirements included in EPA regulations 2 CFR parts 200 and 1500, and voluntary for public outreach information collections via surveys and focus groups.

Estimated number of respondents: To be determined. This data will be available for the next public review period.

Frequency of response: To be determined. This data will be available for the next public review period.

Total estimated burden: To be determined. This data will be available for the next public review period.

Total estimated cost: To be determined. This data will be available for the next public review period.

Changes in the Estimates: This is a new collection; therefore there is no change in burden.

Jacob Burney,
Director, Grants Management Division, Office of Community Support, Office of Environmental Justice and External Civil Rights.

[FR Doc. 2024-00106 Filed 1-5-24; 8:45 am]

BILLING CODE 6560-50-P